DEPARTMENT OF JUSTICE

National Survey of Youth in Custody, 2017-2018; Correction

AGENCY: Department of Justice.

ACTION: 60-Day notice; correction.

SUMMARY: The Bureau of Justice Statistics, Department of Justice, submitted a 60-day notice for publishing in the Federal Register on August 24, 2020 soliciting comments to an information collection request National Survey of Youth in Custody, 2017-2018, to the Office of Management and Budget (OMB) for review and approval in accordance with the Paperwork Reduction Act of 1995. This notice was incorrectly submitted. This information collection request will be discontinued as no immediate data collection is planned.

DATES: August 27, 2020.

FOR FURTHER INFORMATION CONTACT: Amy Lauger, Statistician, Bureau of Justice Statistics, 810 Seventh Street NW, Washington, DC 20531 (email: AskBJS@usdoj.gov; telephone: 202-307-0765).

SUPPLEMENTARY INFORMATION:

Correction

In the Federal Register of August 24, 2020 in FR Doc. 2020-18548, on page 52156, the information collection request is reflected as an extension.

Dated: August 27, 2020.
Melody Braswell,
Departmental Clearance Officer.

[FR Doc. 2020-18875 Filed 8-28-20; 8:45 am]

BILLING CODE 4410-18-P